ENVIRONMENTAL PROTECTION AGENCY

40 CFR Part 52

[R03-OAR-2005-DE-0001; FRL-7970-4]

Approval and Promulgation of Air Quality Implementation Plans; Delaware; Withdrawal of Direct Final Rule

AGENCY: Environmental Protection Agency (EPA).

ACTION: Withdrawal of direct final rule.

SUMMARY: Due to adverse comments, EPA is withdrawing the direct final rule to approve Delaware's State Implementation Plan (SIP) revision. The SIP revision pertains to the modifications to the ambient air quality standards for ozone and fine particulate matter. In the direct final rule published on July 18, 2005 (70 FR 41146), we stated that if we received adverse comments by August 17, 2005, the rule would be withdrawn and not take effect. EPA subsequently received adverse comments. EPA will address the comments received in a subsequent final action based upon the proposed action also published on July 18, 2005 (70 FR 41166). EPA will not institute a second comment period on this action.

DATES: The direct final rule is withdrawn as of September 16, 2005.

FOR FURTHER INFORMATION CONTACT: Rose Quinto, (215) 814-2182, or by e-mail at quinto.rose@epa.gov.

List of Subjects in 40 CFR Part 52

Environmental protection, Air pollution control, Nitrogen dioxide, Ozone, Particulate matter, Reporting and recordkeeping requirements, Volatile organic compounds.

Dated: September 6, 2005.
Donald S. Welsh,
Regional Administrator, Region III.

Accordingly, the added entry for Delaware's Regulation 1, Section 2, and revised entries for Regulation 3, Sections 1, 6, and 11 in 40 CFR 52.420(c) published at 70 FR 41147 are withdrawn as of September 16, 2005.

[FR Doc. 05-18565 Filed 9-15-05; 8:45 am]

BILLING CODE 6560-50-P